DEPARTMENT OF STATE

[Public Notice: 10534]

Notice of Meeting of Advisory Committee on International Law

A meeting of the Department of State's Advisory Committee on International Law will take place on Thursday, September 27, 2018, from 9:30 a.m. to 5:00 p.m. at the George Washington University Law School, Michael K. Young Faculty Conference Center, 716 20th St. NW, 5th Floor, Washington, DC. Legal Adviser Jennifer Newstead will chair the meeting, which will be open to the public up to the capacity of the meeting room. It is anticipated that the meeting will include discussions on international law and contemporary issues in outer space, the role of economic security considerations in international and domestic trade law, international law and privacy in the context of data transfers, and the work of the International Law Commission.

Members of the public who wish to attend should contact the Office of the Legal Adviser by September 21 at kellybm@state.gov or 202-647-0359 and provide their name, professional affiliation, address, and phone number. A valid photo ID is required for admission to the meeting. Attendees who require reasonable accommodation should make their requests by September 18. Requests received after that date will be considered but might not be possible to accommodate.

Brian Kelly,
Attorney-Adviser, Office of the Legal Adviser, Executive Director, Advisory Committee on International Law, Department of State.

[FR Doc. 2018-19334 Filed 9-5-18; 8:45 am]

BILLING CODE 4710-08-P